DEPARTMENT OF VETERANS AFFAIRS

Advisory Committee on Former Prisoners of War; Notice of Meeting

The Department of Veterans Affairs (VA) gives notice under the Federal Advisory Committee Act, 5 U.S.C., App.2, that the Advisory Committee on Former Prisoners of War (FPOW) will meet on January 11-13, 2016. The first two meetings will be held on January 11-12 from 9:00 a.m. to 4:00 p.m. at the Audie Murphy VA Medical Center, 7400 Merton Minter BLVD, San Antonio, TX. The third meeting will be held on January 13 from 9:00 a.m. to 12:00 p.m. at the Courtyard Marriott, 8585 Marriott Dr., San Antonio, TX.

The purpose of the Committee is to advise the Secretary of Veterans Affairs on the administration of benefits under Title 38, United States Code, for Veterans who are former prisoners of war, and to make recommendations on the needs of such Veterans for compensation, health care, and rehabilitation.

The Committee will hear from its Chairman. The Committee will also receive briefings by representatives from Veterans Benefits Administration and Veterans Health Administration. On Monday, January 11 from 9:00 a.m. to 11:00 a.m., the Committee will meet in open session. From 11:00 a.m. to 12:00 p.m., the Committee will convene a closed session in order to protect patient privacy as the Committee tours the VA Medical Center. 5 U.S.C. 552b(c)(6). In the afternoon from 1:00 p.m. to 4:00 p.m., the Committee will reconvene in open session. On Tuesday, January 12, the Committee will convene in an open session. At 3:30 p.m., the Committee will host an open public forum and FPOW panel to gain information from FPOWs about their experiences, issues, and recommendations for health benefits and claims processing. Participation is limited to FPOWs. On January 13, the Committee will convene in open session. The Committee will draft the beginning of their 2016 recommendations and decide the location of their next meeting in the spring.

Former Prisoners of War who wish to speak at the public forum are invited to submit a 1-2 page summary of their comments at the end of the meeting for inclusion in the official meeting record. Members of the public may also submit written statements for the Committee's review to Mr. Eric Robinson, Designated Federal Officer, Advisory Committee on Former Prisoners of War, (and Program Analyst Compensation Service), Department of Veterans Affairs, 810 Vermont Avenue NW., (212), Washington, DC 20420, or via email at eric.robinson3@va.gov. Any member of the public seeking additional information should contact Mr. Robinson via email or call (202) 443-6016.

Dated: November 6, 2015.
Jelessa Burney,
Federal Advisory Committee Management Officer.

[FR Doc. 2015-28725 Filed 11-10-15; 8:45 am]

BILLING CODE P